DEPARTMENT OF ENERGY

Federal Energy Regulatory Commission

[Docket Nos. PF15-5-000; PF15-6-000]

Dominion Transmission, Inc., Atlantic Coast Pipeline, LLC; Notice of Intent To Prepare an Environmental Impact Statement for the Planned Supply Header Project and Atlantic Coast Pipeline Project, Request for Comments on Environmental Issues, and Notice of Public Scoping Meetings

The staff of the Federal Energy Regulatory Commission (FERC or Commission) will prepare an environmental impact statement (EIS) that will discuss the environmental impacts of the Supply Header Project (SHP) involving construction and operation of facilities by Dominion Transmission, Inc. (Dominion) in Pennsylvania and West Virginia, and the Atlantic Coast Pipeline Project (ACP Project) involving construction and operation of facilities by Atlantic Coast Pipeline, LLC (Atlantic) in West Virginia, Virginia, and North Carolina. The environmental impacts of both projects will be considered in one EIS, which will be used by the Commission in its decision-making process to determine whether the projects are in the public convenience and necessity.

This notice announces the opening of the scoping process the Commission will use to gather input from the public and interested agencies on the projects. Your input will help the Commission staff determine what issues they need to evaluate in the EIS. Please note that the scoping period will close on April 28, 2015.

You may submit comments in written form or verbally. Further details on how to submit written comments are in the Public Participation section of this notice. If you sent comments on the SHP or ACP Projects to the Commission before the opening of the dockets on October 31, 2014, you will need to file those comments under Docket No. PF15-5-000 or PF15-6-000 to ensure they are considered as part of this proceeding. In lieu of or in addition to sending written comments, the Commission invites you to attend any of the public scoping meetings scheduled as follows:

Date and time | Location
Monday, March 9, 2015, 7:00 p.m. | Pine Forest High School, 525 Andrews Road, Fayetteville, NC 28311.
Tuesday, March 10, 2015, 7:00 p.m. | Forest Hills Middle School, 1210 Forest Hills Road, Wilson, NC 27896.
Wednesday, March 11, 2015, 7:00 p.m. | William R. Davie Middle School, 4391 Hwy. 158, Roanoke Rapids, NC 27870.
Thursday, March 12, 2015, 7:00 p.m. | Jolliff Middle School, 1021 Jolliff Road, Chesapeake, VA 23331.
Monday, March 16, 2015, 7:00 p.m. | Dinwiddie Middle School, 11608 Courthouse Road, Dinwiddie, VA 23841.
Tuesday, March 17, 2015, 7:00 p.m. | Prince Edward County High School Auditorium, 1482 Zion Hill Road, Farmville, VA 23901.
Wednesday, March 18, 2015, 7:00 p.m. | Nelson County Middle School, 6925 Thomas Nelson Highway, Lovingston, VA 22949.
Thursday, March 19, 2015, 7:00 p.m. | Stuarts Draft High School, 1028 Augusta Farms Road, Stuarts Draft, VA 24477.
Monday, March 23, 2015, 7:00 p.m. | Elkins High School, 100 Kennedy Drive, Elkins, WV 26241.
Tuesday, March 24, 2015, 7:00 p.m. | Bridgeport High School, 515 Johnson Avenue, Bridgeport, WV 26330.

The purpose of these scoping meetings is to provide an opportunity to verbally comment on the projects. If a significant number of people are interested in commenting at the meetings, we ¹ may establish a 3- to 5-minute time limit for each commentor to ensure that all people wishing to comment have the opportunity in the time allotted for the meeting. If time limits on comments are implemented, they will be strictly enforced. A transcript of each meeting will be added to the Commission's administrative record to ensure that your comments are accurately recorded.

¹ “We,” “us,” and “our” refer to the environmental staff of the Commission's Office of Energy Projects.

This notice is being sent to the Commission's current environmental mailing list for these projects. State and local government representatives should notify their constituents of these planned projects and encourage them to comment on their areas of concern.

If you are a landowner receiving this notice, a pipeline company representative may contact you about the acquisition of an easement to construct, operate, and maintain the planned facilities. The company would seek to negotiate a mutually acceptable agreement. However, if the Commission approves the projects, that approval conveys with it the right of eminent domain. Therefore, if easement negotiations fail to produce an agreement, the pipeline company could initiate condemnation proceedings where compensation would be determined in accordance with state law.

A fact sheet prepared by the FERC entitled “An Interstate Natural Gas Facility On My Land? What Do I Need To Know?” is available for viewing on the FERC Web site (www.ferc.gov). This fact sheet addresses a number of typically asked questions, including the use of eminent domain and how to participate in the Commission's proceedings.

Summary of the Planned Projects

The SHP would involve the construction and operation of approximately 38.7 miles of pipeline loop ² and the modification of existing compression facilities in Pennsylvania and West Virginia. The pipeline facilities associated with the SHP would be comprised of two main components: (1) Approximately 3.8 miles of 30-inch-diameter natural gas pipeline loop adjacent to Dominion's existing LN-25 pipeline in Westmoreland County, Pennsylvania; and (2) approximately 34.9 miles of 36-inch-diameter pipeline loop adjacent to Dominion's existing TL-360 pipeline in Harrison, Doddridge, Tyler, and Wetzel Counties, West Virginia.

² A pipeline “loop” is a segment of pipe constructed parallel to an existing pipeline to increase capacity.

In addition to the planned pipelines, Dominion plans to modify four existing compressor stations in Westmoreland and Green Counties, Pennsylvania and Marshall and Wetzel Counties, West Virginia. Dominion would install new gas-fired turbines that would provide for a combined increase of 75,700 horsepower of compression. Dominion would also install new valves, pig launcher/receiver sites,³ and associated appurtenances at these existing compressor station locations.

³ A “pig” is a tool that the pipeline company inserts into and pushes through the pipeline for cleaning the pipeline, conducting internal inspections, or other purposes.

The ACP Project would involve the construction and operation of 554 miles of variable diameter natural gas pipeline in West Virginia, Virginia, and North Carolina. The pipeline facilities associated with the ACP Project would be comprised of four main components as follows:

• Approximately 295.6 miles of 42-inch-diameter pipeline in Harrison, Lewis, Upshur, Randolph, and Pocahontas Counties, West Virginia; Highland, Augusta, Nelson, Buckingham, Cumberland, Prince Edward, Nottoway, Dinwiddie, Brunswick, and Greensville Counties, Virginia; and Northampton County, North Carolina;

• approximately 179.9 miles of 36-inch-diameter pipeline in Northampton, Halifax, Nash, Wilson, Johnston, Sampson, Cumberland, and Robeson Counties, North Carolina;

• approximately 75.7 miles of 20-inch-diameter lateral pipeline in Northampton County, North Carolina; and Greensville, Southampton, Suffolk, and Chesapeake Counties, Virginia; and

• approximately 3.1 miles of 16-inch-diameter natural gas lateral pipeline in Brunswick County, Virginia.

In addition to the planned pipelines, Atlantic plans to construct and operate three new compressor stations totaling 108,275 horsepower of compression. These compressor stations would be located in Lewis County, West Virginia; Buckingham County, Virginia; and Northampton County, North Carolina. Atlantic would also install metering stations, valves, pig launcher/receiver sites, and associated appurtenances along the planned pipeline system.

The SHP and ACP Projects would be capable of delivering 1.5 billion cubic feet of natural gas per day to seven planned distribution points in West Virginia, Virginia, and North Carolina. If approved, construction of the projects is proposed to begin in September 2016. The general location of the projects' facilities and a number of alternatives under consideration are shown in the maps in appendix 1.⁴

⁴ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

Land Requirements for Construction

Construction of the planned facilities would disturb about 12,972 acres of land for the pipeline and aboveground facilities. The typical construction right-of-way for pipeline facilities would vary between 125 feet wide for the 42-inch-diameter pipeline and 75 feet wide for the 16-inch-diameter lateral pipeline, with additional workspace needed in some locations due to site-specific conditions. Following construction, approximately 4,370 acres of land would be retained for permanent operation of the facilities. Land affected by construction but not required for operation would generally be allowed to revert to former uses.

The EIS Process

The FERC will be the lead federal agency for the preparation of the EIS. The U.S. Forest Service (USFS) is participating as a cooperating agency because the ACP Project would cross the Monongahela and George Washington National Forests in West Virginia and Virginia. As a cooperating agency, the USFS intends to adopt the EIS per Title 40 of the Code of Federal Regulations, Part 1506.3 to meet its responsibilities under the National Environmental Policy Act (NEPA) regarding Atlantic's planned application for a Right-of-Way Grant and Temporary Use Permit for crossing federally administered lands. The USFS additionally will assess how the planned pipeline conforms to the direction contained in the Monongahela and George Washington National Forests' Land and Resource Management Plans (LRMP). Changes in the LRMP could be required if the pipeline is authorized across the National Forests. The EIS will provide the documentation to support any needed amendments to the LRMPs.

NEPA requires the Commission to take into account the environmental impacts that could result from an action whenever it considers the issuance of a Certificate of Public Convenience and Necessity. NEPA also requires us to discover and address concerns the public may have about proposals. This process is referred to as scoping. The main goal of the scoping process is to focus the analysis in the EIS on the important environmental issues. By this notice, the Commission requests public comments on the scope of the issues to address in the EIS. We will consider all filed comments during the preparation of the EIS.

In the EIS we will discuss impacts that could occur as a result of the construction and operation of the planned projects under these general headings:

• Geology and soils;

• land use;

• water resources, fisheries, and wetlands;

• cultural resources;

• vegetation and wildlife;

• air quality and noise;

• endangered and threatened species;

• socioeconomics; and

• public safety.

We will present our recommendations in the EIS on how to lessen or avoid impacts on the various resource areas, as applicable.

Dominion and Atlantic are evaluating several route alternatives that were developed through the company's route selection and constraint analysis processes or identified by stakeholders during public outreach efforts. Major route alternatives that have been identified by Dominion and Atlantic are presented in appendix 1. More detailed maps of these, and other, potential alternative routes can be found on the FERC Web site at www.ferc.gov, or Dominion's Web site at https://www.dom.com/corporate/what-we-do/natural-gas/atlantic-coast-pipeline. Part of our NEPA analysis will include evaluating possible alternatives to the planned projects or portions of the projects. Thus, as part of our scoping process, we are specifically soliciting comments on the range of alternatives for both of the projects.

Although no formal application has been filed, we have already initiated our NEPA review under the Commission's pre-filing process. The purpose of the pre-filing process is to encourage early involvement of interested stakeholders and to identify and resolve issues before the FERC receives an application. As part of our pre-filing review, we have begun to contact some federal and state agencies to discuss their involvement in the scoping process and the preparation of the EIS.

The EIS will present our independent analysis of the issues. We will publish and distribute the draft EIS for public comment. After the comment period, we will consider all timely comments and revise the document, as necessary, before issuing a final EIS. To ensure we have the opportunity to consider and address your comments, please carefully follow the instructions in the Public Participation section beginning on page 8.

With this notice, we are asking agencies with jurisdiction by lawand/or special expertise with respect to the environmental issues related to these projects to formally cooperate with us in the preparation of the EIS.⁵ Agencies that would like to request cooperating agency status should follow the instructions for filing comments provided under the Public Participation section of this notice. As discussed above, the USFS has expressed its intention to participate as a cooperating agency in the preparation of the EIS to satisfy its NEPA responsibilities related to these projects. In addition to the USFS, the U.S. Bureau of Land Management, U.S. Fish and Wildlife Service Great Dismal Swamp National Wildlife Refuge, and the U.S. Army Corps of Engineers have also agreed to participate as cooperating agencies.

⁵ The Council on Environmental Quality regulations addressing cooperating agency responsibilities are at Title 40, Code of Federal Regulations, Part 1501.6.

Consultations Under Section 106 of the National Historic Preservation Act

In accordance with the Advisory Council on Historic Preservation's implementing regulations for Section 106 of the National Historic Preservation Act, we are using this notice to initiate consultation with the applicable State Historic Preservation Offices, and to solicit their views and those of other government agencies, interested Indian tribes, and the public on the projects' potential effects on historic properties.⁶ We will define the project-specific Area of Potential Effects (APE) in consultation with the SHPOs as the projects develop. On natural gas facility projects, the APE at a minimum encompasses all areas subject to ground disturbance (examples include construction right-of-way, contractor/pipe storage yards, compressor stations, and access roads). Our EIS for these projects will document our findings on the impacts on historic properties and summarize the status of consultations under Section 106.

⁶ The Advisory Council on Historic Preservation regulations are at Title 36, Code of Federal Regulations, Part 800. Those regulations define historic properties as any prehistoric or historic district, site, building, structure, or object included in or eligible for inclusion in the National Register of Historic Places.

Currently Identified Environmental Issues

We have already identified several issues that we think deserve attention based on a preliminary review of the planned facilities and the environmental information provided by Dominion and Atlantic. This preliminary list of issues may change based on your comments and our analysis.

• Land use impacts, including the exercise of eminent domain and future land use restrictions;

• impacts on property values, tourism, and recreational resources;

• safety issues, such as construction and operation of the planned facilities near existing residences, schools, businesses, and military training facilities, and in karst and steep slope terrain;

• alternatives, including routing within existing linear corridors, avoiding private property, National Forests, National Parkway lands, National Wildlife Refuge land, and other sensitive environmental features;

• impacts on local emergency management systems;

• impacts on forested areas and other vegetation;

• impacts on surface water resources including springs, seeps, and wetlands;

• impacts on groundwater resources and wells;

• impacts on protected species and habitat;

• impacts on cultural resources including battlefields, cemeteries, and historic properties; and

• concerns regarding construction and operational noise, especially related to compressor stations.

Public Participation

You can make a difference by providing us with your specific comments or concerns about the projects. Your comments should focus on the potential environmental effects, reasonable alternatives, and measures to avoid or lessen environmental impacts. The more specific your comments, the more useful they will be. To ensure that your comments are timely and properly recorded, please send your comments so that the Commission receives them in Washington, DC on or before April 28, 2015.

For your convenience, there are three methods you can use to submit your comments to the Commission. In all instances, please reference the appropriate project docket number(s) (PF15-5-000 for the SHP and PF15-6-000 for the ACP Project) with your submission. The Commission encourages electronic filing of comments and has expert staff available to assist you at (202) 502-8258 or efiling@ferc.gov.

(1) You can file your comments electronically using the eComment feature located on the Commission's Web site (www.ferc.gov) under the link to Documents and Filings. This is an easy method for interested persons to submit brief, text-only comments on a project;

(2) You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing;” or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, as well as anyone who submits comments on the projects. We will update the environmental mailing list as the analysis proceeds to ensure that we send the information related to this environmental review to all individuals, organizations, and government entities interested in and/or potentially affected by the planned projects.

Copies of the completed draft EIS will be sent to the environmental mailing list for public review and comment. If you would prefer to receive a paper copy of the document instead of the CD version or would like to remove your name from the mailing list, please return the attached Information Request (appendix 2).

Becoming an Intervenor

Once Dominion and Atlantic file applications with the Commission, you may want to become an “intervenor,” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site. Please note that the Commission will not accept requests for intervenor status at this time. You must wait until the Commission receives formal applications for the projects.

Additional Information

Additional information about the projects is available from the Commission's Office of External Affairs, at (866) 208-FERC, or on the FERC Web site (www.ferc.gov) using the eLibrary link. Click on the eLibrary link, click on “General Search,” and enter the docket number, excluding the last three digits in the Docket Number field (i.e., PF15-5 or PF15-6). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Finally, public meetings or site visits will be posted on the Commission's calendar located at www.ferc.gov/EventCalendar/EventsList.aspx along with other related information.

Dated: February 27, 2015.
Nathaniel J. Davis, Sr.,
Deputy Secretary.

[FR Doc. 2015-05248 Filed 3-5-15; 8:45 am]

BILLING CODE 6717-01-P